DEPARTMENT OF TRANSPORTATION

Federal Aviation Administration

Twenty Sixth RTCA SC-223 IPS and AeroMACS Plenary

AGENCY: Federal Aviation Administration (FAA), U.S. Department of Transportation (DOT).

ACTION: Twenty Sixth RTCA SC-223 IPS and AeroMACS Plenary.

SUMMARY: The FAA is issuing this notice to advise the public of a meeting of Twenty Sixth RTCA SC-223 IPS and AeroMACS Plenary.

DATES: The meeting will be held March 05-09, 2018 9:00 a.m.-5:00 p.m.

ADDRESSES: The meeting will be held at: Hosted by Rockwell Collins, Inc at, Hilton Melbourne Rialto Place, 200 Rialto Place, Melbourne, FL 32901.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Twenty Sixth RTCA SC-223 IPS and AeroMACS Plenary. The agenda will include the following:

Monday, March 5, 2018, 9:00 A.M.-5:00 P.M.

1. Welcome, Introductions, Administrative Remarks

2. Review of Previous Meeting Notes and Action Items

3. Review of Current State of Industry Standards

A. ICAO WG-I

B. AEEC IPS Sub Committee

C. EUROCAE WG Status

4. Current State of Industry Activities

A. SESAR Programs

B. ESA IRIS Precursor

C. Any Other Activities

5. IPS Technical Discussions

6. Review of IPS High Level Profile (Working Papers)

7. Review of IPS RFC Detail Profiles

8. Prioritization of Additional IETF RFCS for Profiling

9. Discussion of Potential Joint Work With EUROCAE WG-108

10. Any Other Topics of Interest

11. Plans for Next Meetings

12. Review of Action Items and Meeting Summary

Tuesday, March 6, 2018, 9:00 A.M.-5:00 P.M.

13. Continue With Plenary Agenda

Wednesday, March 7, 2018, 9:00 A.M.-5:00 P.M.

14. Continue With Plenary Agenda

Thursday, March 8, 2018, 9:00 A.M.-5:00 P.M.

15. Continue With Plenary Agenda

Friday, March 9, 2018, 9:00 A.M.-12:00 P.M.

16. Continue With Plenary Agenda

17. Adjourn When Plenary Agenda is Complete

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 12, 2018.
Mohannad Dawoud,
Management & Program Analyst, Partnership Contracts Branch, ANG-A17, NextGen, Procurement Services Division, Federal Aviation Administration.

[FR Doc. 2018-00773 Filed 1-17-18; 8:45 am]

BILLING CODE 4910-13-P